DEPARTMENT OF TRANSPORTATION

Federal Transit Administration

[Docket No: FTA-2007-28960]

National Transit Database: Amendments to Urbanized Area Annual Reporting Manual

AGENCY: Federal Transit Administration (FTA), DOT.

ACTION: Notice of Availability of Proposed Amendments to the 2007 National Transit Database Urbanized Area Annual Reporting Manual.

SUMMARY: This notice provides interested parties with the opportunity to comment on changes to the Federal Transit Administration's (FTA) 2007 National Transit Database (NTD) Urbanized Area Annual Reporting Manual (Annual Manual). Pursuant to 49 U.S.C. 5335, FTA requires recipients of FTA Urbanized Area Formula Grants to provide an annual report to the Secretary of Transportation via the NTD reporting system according to a uniform system of accounts (USOA). In an ongoing effort to improve the NTD reporting system and be responsive to the needs of the transit agencies reporting to the NTD, FTA annually refines and clarifies the reporting requirements through revisions to the Annual Manual. At this time, FTA is not accepting comments on the NTD Rural Reporting Manual. Comments will be accepted by FTA on the NTD Rural Reporting Manual under a separate Federal Register Notice, which will be forthcoming.

DATES: Comments must be received on or before October 9, 2007. FTA will consider late filed comments to the extent practicable.

ADDRESSES: You may submit comments at the following Web site: http://dms.dot.gov. Follow the instructions there for submitting comments to the DOT electronic docket.

Fax: 202-493-2251.

Mail: Docket Management System; U.S. Department of Transportation, 1200 New Jersey Avenue, SE., West Building Ground Floor, Room W12-140, Washington, DC 20590.

Hand Delivery: To the Docket Management System; U.S. Department of Transportation, 1200 New Jersey Avenue, SE., West Building Ground Floor, Room W12-140, Washington, DC 20590 between 9 a.m. and 5 p.m., Monday through Friday, except Federal Holidays.

Instructions: When submitting comments electronically to the Department's Docket Management System (DMS) Web site located at http://dms.dot.gov, you must use docket number FTA-2007-28960. This will ensure that your comment is placed in the correct docket. If you submit comments by mail, you should submit two copies and include the above docket number. Note that all comments received will be posted, without change, to http://dms.dot.gov including any personal identifying information. This means that if your comment includes any personal identifying information, such information will be made available to users of DMS. You may review the Department's complete Privacy Act Statement in the Federal Register published on April 11, 2000 (65 FR 19477), or you may visit http://dms.dot.gov.

FOR FURTHER INFORMATION CONTACT: For program issues, John D. Giorgis, Office of Budget and Policy, (202) 366-5430 (telephone); (202) 366-7989 (fax); or john.giorgis@dot.gov (e-mail). For legal issues, Richard Wong, Office of the Chief Counsel, (202) 366-0675 (telephone); (202) 366-3809 (fax); or richard.wong@dot.gov (e-mail).

SUPPLEMENTARY INFORMATION:

I. Background

The National Transit Database (NTD) is the Federal Transit Administration's (FTA's) primary database for statistics on the transit industry. Recipients of FTA's Urbanized Area Formula Program (section 5307) and Other Than Urbanized Area Formula Program (section 5311) are required by statute to submit data to the NTD. These data are used to “help meet the needs of * * * the public for information on which to base public transportation service planning * * * ” (49 U.S.C. 5335).

Currently, over 650 transit agencies in urbanized areas report to the NTD through an Internet-based reporting system. Each year, performance data from these submissions are used to apportion over $4 billion of FTA funds under the Urbanized Area Formula Grants Program. These data are also used in the annual National Transit Summaries and Trends report, the biennial Conditions and Performance Report to Congress, and in meeting FTA's obligations under the Government Performance and Results Act.

In an ongoing effort to improve the NTD Internet reporting system and to be responsive to the needs of the transit agencies reporting to the NTD and the transit community, FTA annually refines and clarifies reporting requirements to the NTD. This notice provides interested parties with the opportunity to comment on changes to FTA's 2007 Urbanized Area Annual NTD Module Reporting Manual (Annual Manual). For purposes of comparison, the 2006 Urbanized Area Annual NTD Module Reporting Manual can be reviewed on the NTD Web site, http://www.ntdprogram.gov.

II. Proposed Changes in the 2007 Annual Manual

Basic Information Module

FTA proposes two changes to the Basic Information Form (B-10). First, for the 2007 reporting cycle, FTA proposes to require purchasers of transportation services from private providers to report all the data for these services in the purchaser's NTD submission. Previously, the sellers of purchased transportation services could report separately in some cases. This change will unify all data for a given transit agency into a single report.

Second, for purchased transportation services between two public NTD reporting agencies, FTA proposes to require the service to be reported as directly operated service. Either the public transit agency that is buying the service or the public transit agency that is selling the service may choose to report the service, by mutual agreement of the parties, but the service must be reported as directly operated service. This change is being made because the purpose of collecting separate data for directly operated and purchased transportation services is to allow an assessment of the costs and benefits to public transportation agencies in using private companies as providers for public transportation services in their operations. Including some public transportation agencies as providers of purchased transportation services, however, confuses this purpose. FTA notes that the apportionment of section 5307 funds is based on the urbanized area where the service is provided, and is therefore not affected by which agency reports the service.

Peak Service Data

FTA proposes to require rail transit agencies to report Average Weekday Unlinked Passenger Trips and Actual Passenger Car Revenue Miles by four time categories: Weekday AM Peak, Weekday Midday, Weekday PM Peak and Weekday Other. Previously, FTA only required rail transit agencies to report Average Weekday Unlinked Passenger Trips and Actual Passenger Car Revenue Miles without distinction as to time of day. This data requirement is being added to support the biannual Conditions and Performance Report (C&P Report), which is jointly prepared by FTA and the Federal Highway Administration (FHWA). The C&P Report requires FTA to provide estimates to Congress of the Nation's transit physical conditions, operational performance, and future investment needs. FTA currently measures the capacity utilization of transit rail systems based on the capacity utilization of the system as a whole at all times of the day and during all days of the week, without regard to peak ridership demands. As a result, FTA may be understating the current capacity utilization of transit rail systems, and thus underestimating the Nation's future investment needs for rail transit. FTA plans to use rail transit agencies' average passenger trip length in conjunction with this data to compare peak passenger miles with peak vehicle revenue miles to determine peak capacity utilization. By collecting and analyzing this peak data, FTA plans to determine if there is greater need for additional rail transit capacity than previously realized.

Federal Funding Allocation

FTA proposes to require those few transit agencies that service one urbanized area over 200,000 in population (large urbanized area) and two or more urbanized areas under 200,000 in population (small urbanized areas) to separately allocate their operations, operational expense, and fixed guideway data among each of the urbanized areas under 200,000 in population that it serves. Previously, the NTD only accounted for a transit agency servicing one large urbanized area and one small urbanized area. It did not account for a transit agency servicing one large urbanized area and two small urbanized areas. This change will address that oversight, and provide data that can be used for the apportionment of Small Transit Intensive Cities (STIC) Grants, as required by the Safe, Accountable, Flexible, Efficient Transportation Equity Act: A Legacy for Users (SAFETEA-LU).

Financial Module

FTA proposes to require transit agencies to separate funds that were previously reported as “Other FTA Funds” into different categories for each FTA program. Previously, the NTD required FTA funds only to be reported as either Urbanized Area Formula Funds (section 5307), Capital Program Funds (section 5309), or as Other FTA Funds. The additional categories being proposed by FTA are:

• FTA Metropolitan Planning (section 5303);

• Clean Fuels Program (section 5309);

• Special Needs of Elderly Individuals and Individuals with Disabilities Formula Program (section 5310);

• Other Than Urbanized Area Formula Program (section 5311);

• Jobs Access and Reverse Commute Formula Program (section 5316);

• New Freedom Program (section 5317); and

• Alternative Transportation in Parks and Public Lands (section 5320).

This requirement is designed to improve the NTD's usefulness as a source of information for public transportation planning purposes by providing greater detail as to the sources of funds that are available to transit agencies. Additionally, this requirement is designed to support measurement of performance for the various FTA grant-making programs.

Declarations

FTA proposes to create a standard form for submitting the Chief Executive Officer's (CEO) certification. Previously, CEOs submitted a letter to the NTD as their certification. In prior report years, many transit agencies have submitted CEO certifications that did not conform to all of the requirements for certification. By creating a standard form, FTA seeks to ensure the uniformity of CEO certifications, and to simplify the CEO certification process for reporters.

Sampling Requirement

FTA proposes, beginning in 2008, to require all transit agencies to conduct a statistical sample of average trip lengths (used for calculating passenger miles traveled) every three years, unless they are a large transit agency that is already required to sample every year. Previously, FTA only required some agencies to sample every five years. FTA proposes to require transit agencies that previously sampled only once every five years to now sample every three years in order to ensure the accuracy of passenger mile data used in the apportionment of funds, particularly in regard to the Small Transit-Intensive Cities (STIC) apportionment. Further, by moving most transit agencies to a single cycle for mandatory sampling, FTA will reduce confusion in regards to sampling requirements. FTA notes that 2008 was already going to be a mandatory sampling year for all transit agencies on both the three year cycle and the five year cycle.

Issued in Washington, DC, this 29th day of August 2007.
James S. Simpson,
Administrator.

[FR Doc. E7-17564 Filed 9-5-07; 8:45 am]

BILLING CODE 4910-57-P